DEPARTMENT OF DEFENSE

Department of the Navy

[Docket ID: USN-2025-HQ-0070]

Proposed Collection; Comment Request

AGENCY: Department of the Navy, Department of Defense (DoD).

ACTION: 60-Day information collection notice.

SUMMARY: In compliance with the Paperwork Reduction Act of 1995, the United States Marine Corps announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by September 23, 2025.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Headquarters Marine Corps Records, Reports, Directives, and Forms Management Section, 3000 Marine Corps, Pentagon Rm. 2B253, ATTN: Mr. Mark Kazzi, or call 571-256-8883.

SUPPLEMENTARY INFORMATION:

Title; Associated Form; and OMB Number: Marine Corps Officer Candidate Program Suitability Forms; NAVMC Form 10469, NAVMC Form 10064; OMB Control Number 0712-0002.

Needs and Uses: This information collection is necessary for the United States Marine Corps to verify a potential officer candidate's suitability for service. This information collection request consists of two forms used in this process: NAVMC Form 10469, “Academic Certification for Marine Corps Officer Candidate Program,” and NAVMC Form 10064, “Personal Information Questionnaire.” The NAVMC Form 10469 collects information about the candidate's educational background, and the NAVMC Form 10064 is used to evaluate the candidate's moral character. To accomplish officer procurement requirements prescribed in 10 U.S.C. 8042, 10 U.S.C. Chapter 32, the Marine Corps Recruiting Command (MCRC) Officer Commissioning Manual (MCRC Order 1100.02), and Marine Corps Order 1130.76D, the Marine Corps Officer Selection Officer (OSO) must prospect, screen, and contract qualified individuals. The NAVMC 10469 and 10064 forms are a vital part of this process.

The NAVMC Form 10469 is used to verify a potential officer candidate's academic background and standardized test scores. During their initial interview with an OSO, applicants provide information about the colleges or universities they have attended. The OSO emails the NAVMC Form 10469 to the Registrar's office of the institutions identified by the applicant. The school Registrar's office completes the form with information regarding the student's degree plan, major, credit hours, and grades. The respondent will then digitally sign the form and return it to the OSO via email. It is then uploaded into the potential officer's application via the Marine Corps Recruiting Command's Automated Commissioning Package (ACP) database.

The NAVMC 10064 is completed by the five-character references provided by potential applicants during the Marine Corps Officer Candidate application process. The OSO will contact the references and provide the PIQ via email for completion. Once a reference has completed the form, they will sign it electronically and return it to the OSO via email. In limited cases, the respondent may request to hand deliver their response to the OSO or receive/return the PIQ via the U.S. Postal Service. A prepaid envelope is provided to the respondent if required. The PIQ is used by the OSO and the selection board to assess the personal and moral character of an applicant and as a tool to better assess the possibility of them becoming a Marine Corps Officer.

Affected Public: Individuals or households.

NAVMC Form 10469

Annual Burden Hours: 875.

Number of Respondents: 3,500

Responses per Respondent: 1.

Annual Responses: 3,500.

Average Burden per Response: 15 minutes.

NAVMC Form 10064

Annual Burden Hours: 875.

Number of Respondents: 3,500

Responses per Respondent: 1.

Annual Responses: 3,500.

Average Burden per Response: 15 minutes.

Total Burden

Annual Burden Hours: 1,750.

Number of Respondents: 7,000.

Annual Responses: 7,000.

Frequency: On occasion.

Dated: July 23, 2025.
Aaron T. Siegel,
Alternate OSD Federal Register Liaison Officer, Department of Defense.

[FR Doc. 2025-14074 Filed 7-24-25; 8:45 am]

BILLING CODE 6001-FR-P